DEPARTMENT OF TRANSPORTATION

Federal Highway Administration

Federal Transit Administration

Environmental Impact Statement on Seattle Ferry Terminal—Seattle, WA

AGENCIES: Federal Highway Administration (FHWA), U.S. Department of Transportation (DOT) and Federal Transit Administration (FTA), U.S. Department of Transportation (DOT).

ACTION: Notice of Intent to prepare an Environmental Impact Statement (EIS).

SUMMARY: The Federal Highway Administration and Federal Transit Administration are issuing this notice to advise the public that an Environmental Impact Statement (EIS) will be prepared for the Washington State Ferries Seattle Ferry Terminal Project in Seattle, Washington.

DATES: Written comments on the purpose and need, scope of alternatives and impacts to be considered in the EIS must be received no later than May 19, 2006, and must be sent to Washington State Ferries at the address indicated below.

Scoping Meeting Dates: Two public information meetings will be held in April 2006, including:

Thursday, April 20, 2006, 11:30 a.m.-1:30 p.m., at the Seattle Ferry Terminal, 801 Alaskan Way (Pier 52), Seattle, Washington;

Tuesday, April 25, 2006, 4:30 p.m.-6:30 p.m., at the Puget Sound Regional Council, 1011 Western Ave, #50,Seattle, Washington.

Oral and written comments may be given at the public meetings.

This and all other public meetings will be accessible to persons with disabilities. Any individual who requires special assistance should contact Hadley Greene at (206) 515-3913 at least 48 hours in advance of the meeting in order for WSF to make necessary arrangements. Persons who are deaf or hard of hearing may access Washington State Telecommunications Relay Service by dialing 7-1-1 and asking to be connected to (206) 515-3913.

ADDRESSES: To ensure that the full range of issues related to this proposed action are identified and addressed, comments and suggestions are invited from interested parties. Comments will be accepted at the public scoping meetings (either through written comments forms and/or orally through the court reporter) or they can be e-mailed to SeattleFerry TerminalProject@wsdot.wa.gov or mailed to Washington State Ferries, Hadlay Greene, Customer and Community Relations, 2901 Third Avenue, Suite 500, Seattle, WA 93121.

FOR FURTHER INFORMATION CONTACT: Linda Gehrke, Federal Transit Administration, Telephone: (206) 220-4463; or Steve Saxton, Federal Highway Administration, Telephone: (360) 753-9411; or Angela Freudenstein, Washington State Ferries. Telephone: (206) 382-5230. Additional information on the Seattle Ferry Terminal Project can be found on the project Web site at www.wsdot.wa.gov/ferries/projects/seattlecolmandock/.

SUPPLEMENTARY INFORMATION:

Propose Action Background

The FHWA and FTA, as Federal co-lead agencies, in participation with the Washington State Ferries (WSF) will prepare an Environmental Impact Statement (EIS) on the proposed Seattle Ferry Terminal Project in Seattle, Washington. The project study area generally encompasses the southern portion of the Seattle downtown between King Street and Madison Streets along the waterfront.

The existing Seattle Ferry Terminal at Colman Dock is both structurally deteriorated and lacks the capacity to meet either the current peak travel demand or future needs. The existing pier structure was built in 1964, reusing many timber piles from the original 1936 pier. The south half of the dock was rebuilt in the 1990s. In 2002 WSF conducted and underwater inspection that indicated almost one-half of the timber piles were damaged or deteriorated. In addition, the transfer spans for loading cars and passengers onto the ferry vessels are aging and deteriorating. All of these facilities are nearing the end of their useful life and need to be replaced.

The draft WSF Long-Range Strategic Plan indicates that the Seattle Ferry Terminal will experience considerable growth in both vehicle and passenger traffic between now and 2030. During the daily westbound PM peak travel period, when traffic is heaviest, the number of vehicles carried is expected to increase by over 125%. During the same travel period, the number of walk-on passengers is projected to triple. To accommodate this projected growth, and avoid continuing and worsening backups on nearby surface streets, the existing terminal's holding capacity will need to more than double.

Currently, the Seattle Ferry Terminal does not have enough area to hold vehicles waiting to use the ferry on peak travel days, particularly on a Friday during the summer. As a result of limited space on the dock (currently there is room for a maximum of approximately 600 vehicles) vehicles back up on surface streets on several days each year. These waiting vehicles disrupt and conflict with through traffic at several roadway intersections. Backups are expected to worsen in the future if improvements at the terminal are not made.

Foot passengers moving between the terminal and downtown encounter mobility issues related to the surges of heavy pedestrian traffic in one direction or the other on an above-street bridge; inadequate lighting and poor pavement conditions along surface streets; lack of Americans with Disabilities Act (ADA)-compliant facilities; and poor access and inconvenient connections to existing multi-modal transportation services.

The Maritime Transportation Security Act of 2002, part of the U.S. Coast Guard's Homeland Security mandate, requires a number of physical improvements be made at the Seattle Ferry Terminal, including areas for passenger and vehicle screening.

Project Objectives/Alternatives

The primary objectives of the Seattle Ferry Terminal Project are to replace the aging and deteriorating dock structure, accommodate projected growth of both vehicle and passenger traffic, enhance operational effectiveness and thus decrease congestion on adjacent city streets, improve passenger connections to multi-modal transportation services and mobility into downtown, and incorporate physical improvements in conformance with ADA and Maritime Transportation Security Act requirements.

All reasonable alternatives that meet the project objectives will be considered. The EIS will include a range of terminal improvements, as well as a No-Build Alternative.

Probable Effects

The EIS will evaluate significant transportation, environmental, social, and economic impacts of the alternatives. Potential areas of impact include: overwater coverage, aquatic resources, land use, economics, historic and cultural properties, traffic, and environmental justice. All impacts will be evaluated for both the construction period and for the long-term period of operation. Measures to avoid, minimize, or mitigate any significant impacts will be developed.

Issued on March 13, 2006.
R.F. Krochalis,
Regional Administrator, Region X, Federal Transit Administration.
Steve Saxton,
Area Engineer, Washington Division, Federal Highway Administration.

[FR Doc. 06-2582 Filed 3-16-06; 8:45 am]

BILLING CODE 4910-57-M